DEPARTMENT OF COMMERCE

International Trade Administration

[A-549-832]

Certain Oil Country Tubular Goods From Thailand: Final Determination of Sales at Less Than Fair Value

AGENCY: Enforcement and Compliance, International Trade Administration, Department of Commerce.

SUMMARY: The Department determines that imports of certain oil country tubular goods from Thailand are being, or are likely to be, sold in the United States at LTFV, as provided in section 735 of the Tariff Act of 1930, as amended (the Act). The final dumping margins for this investigation are listed in the “Final Determination” section below.

DATES: Effective Date: July 18, 2014.

FOR FURTHER INFORMATION CONTACT: John Drury or Angelica Mendoza, AD/CVD Operations, Office VI, Enforcement and Compliance, International Trade Administration, U.S. Department of Commerce, 14th Street and Constitution Avenue NW., Washington, DC 20230; telephone: (202) 482-0195 or (202) 482-3019, respectively.

SUPPLEMENTARY INFORMATION:

Background

On February 25, 2014, the Department published the Preliminary Determination in the Federal Register.¹ In the Preliminary Determination, we postponed the final determination until no later than 135 days after the publication of the Preliminary Determination in accordance with section 735(a)(2)(A) of the Act and 19 CFR 351.210(b)(2)(ii) and invited parties to comment on our Preliminary Determination.

¹ See Certain Oil Country Tubular Goods From Thailand: Preliminary Determination of Sales at Less Than Fair Value, and Postponement of Final Determination, 79 FR 10487 (February 25, 2014) (Preliminary Determination).

We did not receive any comments from parties.

Period of Investigation

The period of investigation is July 1, 2012, through June 30, 2013.

Scope of the Investigation

The merchandise covered by the investigation is certain oil country tubular goods (OCTG), which are hollow steel products of circular cross-section, including oil well casing and tubing, of iron (other than cast iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of the investigation also covers OCTG coupling stock.

Excluded from the scope of the investigation are: Casing or tubing containing 10.5 percent or more by weight of chromium; drill pipe; unattached couplings; and unattached thread protectors. The merchandise subject to the investigations is currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The merchandise subject to the investigation may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, 7304.59.80.80, 7305.31.40.00, 7305.31.60.90, 7306.30.50.55, 7306.30.50.90, 7306.50.50.50, and 7306.50.50.70.

The HTSUS subheadings above are provided for convenience and customs purposes only. The written description of the scope of the investigation is dispositive.

Use of Adverse Facts Available

In the Preliminary Determination, we determined that WSP Pipe Co., Ltd. (WSP) failed to respond to the Department's questionnaire and thus withheld necessary information within the meaning of section 776(a) of the Act.² Furthermore, because WSP did not submit any response to our requests for information and did not suggest alternative forms in which it could submit such responses, we preliminarily determined that sections 782(c)(1), (d), and (e) of the Act did not apply. Thus, in the Preliminary Determination, pursuant to sections 776(a)(2)(A), (B), and (C) of the Act, we based the dumping margin on facts otherwise available for WSP. Moreover, because WSP failed to act to the best of its ability to comply with the Department's requests for information, we applied adverse facts available (AFA) to WSP in the Preliminary Determination, pursuant to section 776(b) of the Act.³

² See Preliminary Determination and the accompanying Preliminary Decision Memorandum.

³ See section 776(b) of the Act; see also 19 CFR 351.308(c); and Statement of Administrative Action, H.R. Doc. No. 103-316, vol. I (1994) at 829-831.

In the Preliminary Decision Memo, we stated that “{i}t is the Department's practice to use the highest rate from the petition in an investigation when a respondent fails to act to the best of its ability to provide the necessary information.⁴ Therefore, because an adverse inference is warranted, we assigned to WSP the highest margin alleged in the Petition, as referenced in Certain Oil Country Tubular Goods from India, the Republic of Korea, the Republic of the Philippines, Saudi Arabia, Taiwan, Thailand, the Republic of Turkey, Ukraine, and the Socialist Republic of Vietnam: Initiation of Antidumping Duty Investigations, 78 FR 45505 (July 29, 2013) (Initiation Notice) (i.e., 118.32 percent).” ⁵ Because there have been no changes from the Preliminary Determination, pursuant to section 776 of the Act, the Department continues to find it appropriate to base WSP's rate on AFA. Further, we continue to find that the margin in the Petition, which we determined during our pre-initiation analysis was based on adequate and accurate information, and which we corroborated in the Preliminary Determination, is the appropriate AFA rate for WSP.⁶

⁴ See Preliminary Decision Memorandum (citing Notice of Preliminary Determination of Sales at Less Than Fair Value and Postponement of Final Determination: Purified Carboxymethylcellulose From Finland, 69 FR 77216, 77218 (December 27, 2004) (unchanged in Notice of Final Determination of Sales at Less Than Fair Value: Purified Carboxymethylcellulose From Finland, 70 FR 28279 (May 17, 2005))).

⁵ See Antidumping Duty Petition on Certain Oil Country Tubular Goods from Thailand, Supplemental Response (Thailand AD Supplement) dated July 12, 2013, at 6, and the July 22, 2013, Antidumping Investigation Initiation Checklist on Certain Oil Country Tubular Goods from Thailand (Initiation Checklist) on file in Enforcement and Compliance's Central Records Unit, at 8; see also Initiation Notice.

⁶ See Preliminary Decision Memo at 6-10.

Final Determination

The Department determines that the following dumping margins exist for the period July 1, 2012, through June 30, 2013:

Manufacturer/exporter | Weighted-average margin (percent)
WSP Pipe Co., Ltd | 118.32
All Others | 118.32

Continuation of Suspension of Liquidation

Pursuant to section 735(c)(1)(B) of the Act, the Department will instruct U.S. Customs and Border Protection (CBP) to continue to suspend liquidation of all entries of certain oil country tubular goods from Thailand which were entered, or withdrawn from warehouse, for consumption on or after February 25, 2014, the date of publication of the Preliminary Determination. We will instruct CBP to require a cash deposit equal to the weighted-average amount by which normal value exceeds U.S. price, as follows: (1) The rate for WSP will be the rate we determined in this final determination; (2) if the exporter is not a firm identified in this investigation but the producer is, the rate will be the rate established for the producer of the subject merchandise; (3) the rate for all other producers or exporters will be 118.32 percent, as discussed in the “All Others Rate” section, below. These suspension of liquidation instructions will remain in effect until further notice.

All Others Rate

Section 735(c)(5)(A) of the Act provides that the estimated “all others” rate shall be an amount equal to the weighted average of the estimated weighted-average dumping margins established for exporters and producers individually investigated, excluding any zero or de minimis margins, and any margins determined entirely under section 776 of the Act. We cannot apply the methodology described in section 735(c)(5)(A) of the Act to calculate the “all others” rate, as the only “individually investigated” margin in this final determination was determined entirely under section 776 of the Act. In cases where no weighted-average dumping margins besides zero, de minimis, or those determined entirely under section 776 of the Act have been established for individually investigated entities, in accordance with section 735(c)(5)(B) of the Act, the Department averages the margins calculated by the petitioners in the petition and applies the result to all other entities not individually examined.⁷ In this case, however, petitioners provided only one margin in the Petition.⁸ Therefore, we continue to assign as the all others rate the only margin in the Petition; that rate is 118.32 percent.

⁷ See Notice of Preliminary Determination of Sales at Less Than Fair Value: Sodium Nitrite from the Federal Republic of Germany, 73 FR 21909 (April 23, 2008); unchanged in Notice of Final Determination of Sales at Less Than Fair Value: Sodium Nitrite from the Federal Republic of Germany, 73 FR 38986 (July 8, 2008).

⁸ See Initiation Notice; see also Initiation Checklist at 7-8.

U.S. International Trade Commission Notification

In accordance with section 735(d) of the Act, we will notify the U.S. International Trade Commission (ITC) of our final determination. Because our final determination is affirmative, in accordance with section 735(b)(2) of the Act, the ITC will determine within 45 days whether the domestic industry in the United States is materially injured, or threatened with material injury, by reason of imports or sales (or the likelihood of sales) for importation of the subject merchandise. If the ITC determines that such injury exists, the Department will issue an antidumping duty order directing CBP to assess, upon further instruction by the Department, antidumping duties on all imports of the subject merchandise entered, or withdrawn from warehouse, for consumption on or after the effective date of the suspension of liquidation.

Return or Destruction of Proprietary Information

This notice also serves as a reminder to parties subject to administrative protective order (APO) of their responsibility concerning the disposition of proprietary information disclosed under APO in accordance with 19 CFR 351.305. Timely notification of the destruction of APO materials or conversion to judicial protective order is hereby requested. Failure to comply with the regulations and the terms of an APO is a sanctionable violation.

This determination is issued and published pursuant to sections 735(d) and 777(i)(l) of the Act.

Dated: July 10, 2014.
Ronald K. Lorentzen,
Acting Assistant Secretary, for Enforcement and Compliance.

[FR Doc. 2014-16866 Filed 7-17-14; 8:45 am]

BILLING CODE 3510-DS-P